DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published in 65 FR 645, January 5, 2000. Comments were received and addressed by MARAD.

DATES: Comments must be submitted on or before May 22, 2000.

FOR FURTHER INFORMATION CONTACT: John T. Marquez, Jr., Office of the Chief Counsel, Maritime Administration, 400 Seventh Street, SW, Room 7228, Washington, DC 20590, telephone number 202-366-5320. Copies of this collection can also be obtained from that office.

SUPPLEMENTARY INFORMATION: Maritime Administration.

Title of Collection: “Eligibility of U.S.-Flag Vessels of 100 Feet or Greater In Registered Length to Obtain a Fishery Endorsement to the Vessel's Documentation”.

OMB Control Number: 2133-NEW.

Type of Request: Approval of a new information collection.

Affected Public: Vessel Owners, Charterers, Mortgagees, Mortgage Trustees, and Vessel Managers of vessels of 100 feet or greater in registered length for which a fishery endorsement to the vessel's documentation is being sought.

Form(s): None.

Abstract: In accordance with the American Fisheries Act of 1998 (AFA), owners of vessels of 100 feet or greater in registered length who wish to obtain a fishery endorsement to the vessel's documentation will be required to file an Affidavit of United States Citizenship demonstrating that they comply with the requirements of section 2 of the Shipping Act of 1916, 46 App. U.S.C. 802. Other documentation to be submitted with the Affidavit includes a copy of the Articles of Incorporation, Bylaws or other comparable documents, a description of any management agreements entered into with Non-Citizens, a certification that any management contracts with Non-Citizens do not convey control in a fishing vessel, fish processing vessel, or fish tender vessel to a Non-Citizen, and a copy of any time charters or voyage charters with Non-Citizens.

The information collection is necessary for MARAD to determine that a given vessel is owned and controlled by Citizens of the United States in accordance with the requirements of the AFA and, therefore, is eligible to be documented with a fishery endorsement to its documentation. The information may also be used to determine whether the vessel owner, charterer, processor or other entity has violated harvesting and processing caps imposed under section 210(e)(1) and (2) of the AFA, and whether there is a conflict with an international treaty or agreement that would result in an exemption from the requirements of the rule for a particular vessel owner or mortgagee.

Annual Estimated Burden Hours: 2950 hours.

ADDRESSES: Send comments to the Office of Information and Regulatory Affairs, Office of Management and Budget, 725 17th Street, NW, Washington, DC 20503, Attention MARAD Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: April 17, 2000.
Edmund T. Sommer, Jr.,
Acting Secretary, Maritime Administration.

[FR Doc. 00-9933 Filed 4-19-00; 8:45 am]

BILLING CODE 4910-81-P